POSTAL SERVICE

39 CFR Part 241

Relocating Retail Services; Adding New Retail Service Facilities

AGENCY: Postal Service™

ACTION: Interim final rule.

SUMMARY: This interim rule revises regulations concerning public notification and solicitation of comments regarding the relocation or addition of retail service facilities. It establishes written notice as the standard method for notifying the public of plans to add or relocate a retail service facility, rather than in-person meetings. In addition, the interim rule revises the scope of relocations subject to public notice and solicitation of community comments to exclude relocations within a single development of buildings that share access points from a public right of way. The interim rule also removes a duplicative requirement to inform the community of potential construction when adding a retail service facility and makes minor technical changes.

DATES: Effective June 6, 2023. Comments must be received by August 7, 2023.

ADDRESSES: Please submit written comments by email to USPSFAC@usps.gov, with the subject heading “241.4 Rulemaking,” or by mail to Joseph B. Fray, United States Postal Service, 475 L'Enfant Plaza SW, Room 6127, Washington, DC 20260-1127.

All submitted comments and attachments are part of the public record and subject to disclosure. Do not enclose any material in your comments that you consider to be confidential or inappropriate for public disclosure. You may inspect and photocopy all written comments, by appointment only, at USPS® Headquarters Library, 475 L'Enfant Plaza SW, 11th Floor North, Washington, DC 20260. These records are available for review on Monday through Friday, 9:00 a.m.-4:00 p.m., by calling 202-268-2906.

FOR FURTHER INFORMATION CONTACT: David P. Rouse, Director of Real Estate & Assets, United States Postal Service, at David.P.Rouse@usps.gov, (202) 210-3559.

SUPPLEMENTARY INFORMATION: When the Postal Service makes a tentative decision to relocate all retail services from a retail service facility to a separate physical building, or to add a new retail service facility for a community, it provides advance notification to the community and solicits community comments. 39 CFR 241.4(a)(1). The Postal Service considers community comments before reaching a final decision to proceed with, modify, or cancel the proposed relocation or addition. Id. 241.4(c)(4). Exceptions to the general notification requirement apply to certain temporary or emergency relocations. 39 CFR 241.4(a)(2). The purpose of the regulation is to notify members of the community and their elected officials of retail service facility relocations and additions, and to provide them the opportunity to comment on why the Postal Service's tentative decision and proposal may not be the optimal solution for the Postal Service's identified need. 39 CFR 241.4(c)(4). To obtain this community input, prior to the exceptional circumstances of the COVID-19 pandemic, the Postal Service notified the community through a news release and a public presentation, either as part of the agenda at a regularly scheduled public meeting of local officials or at a separately scheduled Postal Service public meeting addressing the proposal. 39 CFR 241.4(c)(2). The regulation presently allows for an alternate method of notifying the community under exceptional circumstances that would prevent a Postal Service representative from attending or conducting a public meeting . . . the Postal Service, in lieu of a public meeting, will mail written notification of the tentative decision and the proposal to customers within the community . . . seeking their written input on the proposal and providing an address to which the community and local officials may send written appeals of the tentative decision and comments on the proposal. 39 CFR 241.4(c)(3).

During the effectiveness of the Secretary of Health and Human Services' Determination of a Public Health Emergency related to COVID-19, the Postal Service has mailed postcards to communities affected by relocations and additions of retail service facilities to provide notice and solicit comments, rather than holding public meetings. This written notification proved to be a more effective means of communicating and provided community members with a more accessible method of providing comments. Because written notification and solicitation of comments more effectively and accessibly engages members of affected communities than do public meetings, the Postal Service, through this interim rule, establishes written notification as the standard method of soliciting community comments for all subject relocations and additions, rather than just under the exceptional circumstances set forth in 39 CFR 241.4(c)(3).

In addition, the interim rule clarifies the scope of relocations subject to the notification requirement in a manner that excludes a move within a single development, such as among storefronts within a single shopping center, because such relocations have a de minimis effect on the availability of retail services in a community. Paragraph (c)(3)(ii)(A)(4) required that, as part of this process, the Postal Service inform the community of any construction that may be necessary when a retail service facility is added. Because the Postal Service is already required to inform the community of any decisions to undertake construction pursuant to 39 U.S.C. 409(f), this requirement was also deleted to avoid duplicating efforts. Finally, minor technical amendments were made to the language of the regulation.

The interim rule will benefit the Postal Service and the public in general. It will reduce burdens on the Postal Service and the public by recognizing that relocations of retail service facilities within a single development are not relocations that would materially affect communities. In addition, where relocation decisions would benefit from community input, the modified regulation will provide improved notice to the public and an easier and more accessible means of receiving community input.

This interim rule reflects the procedures in place since 2020 for notifying communities of retail service facility relocations and additions, and imposes no burden on members of the public; therefore, it is effective immediately.

Although exempted by 39 U.S.C. 410(a) from the advance notice requirements of the Administrative Procedure Act regarding proposed rulemaking (5 U.S.C. 553), the Postal Service invites public comment at the above address and will consider any comments received before issuing a final rule.

List of Subjects in 39 CFR Part 241

Organization and functions (Government agencies).

For the reasons stated in the preamble, the Postal Service amends 39 CFR part 241 as set forth below:

PART 241—ESTABLISHMENT CLASSIFICATION, AND DISCTONUANCE

1. The authority citation for 39 CFR part 241 continues to read as follows:

Authority: 39 U.S.C. 101, 401, 403, 404, 410, 1001.

2. Amend § 241.4 by:

a. Revising paragraphs (a)(1), (a)(2) introductory text, and (a)(2)(i);

b. Adding paragraphs (a)(2)(iv) and (v);

c. Revising the first sentence of paragraph (a)(3);

d. Revising paragraphs (b), (c)(2), (c)(3) introductory text, (c)(3)(ii)(A)(2) and (3), and (c)(3)(ii)(B);

e. Removing paragraph (c)(3)(ii)(A)(4);

f. Revising the heading and first sentence of paragraph (c)(4); and

g. Revising paragraph (c)(5).

The revisions and additions read as follows:

§ 241.4 Relocating retail services; adding new retail service facilities.

(a) * * *

(1) Except as otherwise provided, this section applies when the Postal Service makes a tentative decision to relocate all retail services from a retail service facility to a separate physical building, or to add a new retail service facility for a community. As used in this section, “retail services” means the single-piece mail services offered to individual members of the public on a walk-in basis, and a “retail service facility” is a physical building where Postal Service employees provide such retail services.

(2) This paragraph (a)(2) applies to temporary additions of retail service or relocations of retail service facilities, emergency relocations of retail services, provisional relocations of retail services, and relocations of retail services within the same development or following redevelopment of a site.

(i) The Postal Service may implement temporary additions of retail service or relocations of retail service facilities without undertaking the process in paragraph (c) of this section when necessary to support Postal Service business for holidays, special events, or overflow business. Temporary additions of retail service and relocations of retail service facilities normally will be limited to 180 days in duration. Any additional incremental time periods of up to 180 days each must be approved by the Vice President, Facilities or his designee.

* * * * *

(iv) The Postal Service may implement relocations without undertaking the process in paragraph (c) of this section when the new retail service facility is within the same development as the relocated retail service facility. As used in this section, “development” means one or more commercial or mixed-use buildings that share an access point or points from a public right-of-way.

(v) The Postal Service may implement relocations without undertaking the process in paragraph (c) of this section when the relocated retail service facility is within the same site following the redevelopment of the building or development in which the relocated retail service facility was located.

(3) This section applies to tentative decisions described in paragraphs (a)(1) and (2) of this section made on or after June 6, 2023. * * *

(b) Purpose. The purpose of this section is to provide opportunities for community members and their elected local officials to comment on Postal Service tentative decisions described in paragraphs (a)(1) and (2) of this section and to give input on proposals for implementing those decisions (each a “proposal”), and to require the Postal Service to consider any input in arriving at final decisions to proceed with, modify, or cancel proposals.

(c) * * *

(2) Notify the community. The Postal Service will send an initial news release outlining the proposal to one or more news media serving the community and, if the community has a retail service facility, then the Postal Service also will post a copy of the information given to local officials or the news release in the public lobby of that retail service facility. If the proposal concerns relocating retail services from a leased facility, then, using the most current notice address information in the Postal Service's file for the site, the Postal Service will deliver to the lessor a copy of the information given to local officials, provided, however, that no such notice will be required when the lessor has terminated the Postal Service's lease or has declined to renew the Postal Service lease on terms acceptable to the Postal Service.

(3) Solicit comments from the community. The Postal Service will mail written notification of the tentative decision and the proposal to customers within the community and post a notice of the proposal in the retail service facility that would be affected by the proposal, seeking their written input on the proposal and providing an address to which the community and local officials may send written comments on the proposal during the 45 days following the mailing of that notification.

* * * * *

(ii)(A) * * *

(2) Identify the site or area, or both, to which the Postal Service anticipates adding the retail service facility; and

(3) Describe the anticipated size of the added retail service facility, and the anticipated services to be offered.

* * * * *

(B) The Postal Service may identify more than one potential site and/or area, for example, when the Postal Service has not selected yet among competing sites.

(4) Consider comments. After the 45-day comment period, the Postal Service will consider the comments received that identify reasons why the Postal Service's tentative decision and proposal (e.g., to relocate to the selected site, or to add a new retail service facility) is, or is not, the optimal solution for the identified need. * * *

(5) Identify any new site or area. After the written notification under paragraph (c)(3) of this section, if the Postal Service decides to use a site or area that it did not identify in the written notification, and this section applies with respect to that new site or area, then the Postal Service will undertake the steps in paragraphs (c)(2) through (4) of this section with regard to the new site or area.

* * * * *

Tram T. Pham,
Attorney, Ethics and Legal Compliance.

[FR Doc. 2023-11896 Filed 6-5-23; 8:45 am]

BILLING CODE 7710-12-P